DEPARTMENT OF THE INTERIOR

National Park Service

[NPS-WASO-NAGPRA-NPS0037943; PPWOCRADN0-PCU00RP14.R50000]

Notice of Inventory Completion: U.S. Department of the Interior, National Park Service, Great Basin National Park, Baker, NV

AGENCY: National Park Service, Interior.

ACTION: Notice.

SUMMARY: In accordance with the Native American Graves Protection and Repatriation Act (NAGPRA), the U.S. Department of the Interior, National Park Service, Great Basin National Park (GRBA) has completed an inventory of human remains and has determined that there is a cultural affiliation between the human remains and Indian Tribes or Native Hawaiian organizations in this notice.

DATES: Repatriation of the human remains in this notice may occur on or after June 20, 2024.

ADDRESSES: Ashley Adams, Superintendent, Great Basin National Park, 100 Great Basin National Park, Baker, NV 89311, telephone (775) 234-7502, email ashley_adams@nps.com.

SUPPLEMENTARY INFORMATION: This notice is published as part of the National Park Service's administrative responsibilities under NAGPRA. The determinations in this notice are the sole responsibility of the Superintendent, GRBA, and additional information on the determinations in this notice, including the results of consultation, can be found in the inventory or related records.

Abstract of Information Available

Based on the information available, human remains representing, at least, 11 individuals have been reasonably identified. No associated funerary objects are present. Archeological excavations were conducted in 1937, 1938, and 1963 at the Lehman Caves Natural Entrance site located in White Pine County, NV. Human remains representing at least 21 individuals were reported in a Notice of Inventory Completion published in the Federal Register on April 22, 1998 (63 FR 19940-19942) and were repatriated in 1998 by GRBA. A 2018 review of faunal materials reasonably identified additional fragmentary human remains representing, at least, 11 individuals. The following types of information were used to determine cultural affiliation: anthropological, archeological, geographic, historical, oral tradition, and Native American traditional knowledge. These human remains have not been treated with hazardous substances.

Cultural Affiliation

Based on the information available and the results of consultation, cultural affiliation is clearly identified by the information available about the human remains described in this notice.

Determinations

GRBA has determined that:

• The human remains described in this notice represent the physical remains of 11 individuals of Native American ancestry.

• There is a reasonable connection between the human remains described in this notice and the Confederated Tribes of the Goshute Reservation, Nevada and Utah; Duckwater Shoshone Tribe of the Duckwater Reservation, Nevada; Ely Shoshone Tribe of Nevada; Paiute Indian Tribe of Utah (Cedar Band of Paiutes, Kanosh Band of Paiutes, Koosharem Band of Paiutes, Indian Peaks Band of Paiutes, and Shivwits Band of Paiutes); and the Skull Valley Band of Goshute Indians of Utah.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after June 20, 2024. If competing requests for repatriation are received, GRBA must determine the most appropriate requestor prior to repatriation. Requests for joint repatriation of the human remains are considered a single request and not competing requests. GRBA is responsible for sending a copy of this notice to the Indian Tribes and Native Hawaiian organizations identified in this notice.

Authority: Native American Graves Protection and Repatriation Act, 25 U.S.C. 3003, and the implementing regulations, 43 CFR 10.10.

Dated: May 9, 2024.
Melanie O'Brien,
Manager, National NAGPRA Program.

[FR Doc. 2024-11091 Filed 5-20-24; 8:45 am]

BILLING CODE 4312-52-P